DEPARTMENT OF HOMELAND SECURITY

Coast Guard

[Docket No. USCG-2018-0875]

Merchant Mariner Medical Advisory Committee; Vacancies

AGENCY: U.S. Coast Guard, Department of Homeland Security.

ACTION: Request for applications.

SUMMARY: The U.S. Coast Guard seeks applications for membership on the Merchant Mariner Medical Advisory Committee. The Committee provides advice and recommendations to the Secretary on matters related to medical certification determinations for issuance of licenses, certificates of registry, and merchant mariners' documents; medical standards and guidelines for the physical qualifications of operators of commercial vessels; medical examiner education; and medical research.

DATES: Completed applications should be submitted to the U.S. Coast Guard on or before February 4, 2019.

ADDRESSES: Applicants should send a cover letter expressing interest in an appointment to the Merchant Mariner Medical Advisory Committee that identifies the applicant's preferred membership, along with a resume detailing the applicant's experience by one of the following methods:

• By Email: davis.j.breyer@uscg.mil, (preferred) Subject line: The Merchant Mariner Medical Advisory Committee;

• By Fax: 202-372-8382 ATTN: Mr. Davis J. Breyer, Alternate Designated Federal Officer; or

• By Mail: Mr. Davis J. Breyer, Alternate Designated Federal Officer of the Merchant Mariner Medical Advisory Committee, Commandant, (CG-MMC-2)/MEDMAC, U.S. Coast Guard, 2703 Martin Luther King Jr. Ave SE, Stop 7509, Washington, DC, 20593-7509.

FOR FURTHER INFORMATION CONTACT: Mr. Davis J. Breyer, Alternate Designated Federal Officer of the Merchant Mariner Medical Advisory Committee, Commandant, (CG-MMC-2)/MEDMAC, U.S. Coast Guard, 2703 Martin Luther King Jr. Ave SE, Stop 7509, Washington, DC, 20593-7509, telephone 202-372-1445, fax 202-372-8382 or davis.j.breyer@uscg.mil.

SUPPLEMENTARY INFORMATION: The Merchant Mariner Medical Advisory Committee is a federal advisory committee established in accordance with the provisions of the Federal Advisory Committee Act (Title 5 U.S.C. Appendix) and 46 U.S.C. 7115.

The Committee meets at least twice each year. Its subcommittees and working groups may hold additional meetings as needed to consider specific tasks.

Except for vacancy appointments, Committee members serve a term of office of five years. Members may serve a maximum of two consecutive terms. All members serve at their own expense and receive no salary or other compensation from the Federal Government. Members may be reimbursed for travel and per diem in accordance with Federal Travel Regulations.

We will consider applications for the following six positions that will be vacant on April 18, 2019. Federal employees, in accordance with 46 U.S.C. 7115(b)(1), and registered lobbyists, as described below, are not eligible for these positions.

(1) Professional mariner membership positions. To be eligible, you must have experience as a merchant mariner and have significant knowledge and experience in the duties of the various positions aboard ship and the nature of the environment in which these duties are performed; and

(2) Health-care professionals. To be eligible, you must have particular expertise, knowledge, or experience regarding the medical examinations of merchant mariners or occupational medicine.

Each member will be appointed and serve as a Special Government Employee as defined in section 202(a) of Title 18, U.S.C. As a candidate for appointment as a Special Government Employee, applicants are required to complete a new entrant Confidential Financial Disclosure Reports (OGE Form 450). The U.S. Coast Guard may not release the reports or the information in them to the public except under an order issued by a Federal court or as otherwise provided under the Privacy Act (5 U.S.C. 552a). Only the Designated U.S. Coast Guard Ethics Official or his or her designee may release a Confidential Financial Disclosure Report. Applicants can obtain this form by going to the website of the Office of Government Ethics (www.oge.gov), or by contacting the individual listed above in FOR FURTHER INFORMATION CONTACT. All applications must be accompanied by a completed OGE Form 450.

Registered lobbyists are not eligible to serve on Federal Advisory Committees in an individual capacity. See “Revised Guidance on Appointment of Lobbyist to Federal Advisory Committees, Boards and Commissions” (79 FR 47482, August 13, 2014). The positions we listed above will be someone appointed in their individual capacity and would be designated a Special Government Employee as defined in 202 (a) of Title 18, United States Code. Registered lobbyists are lobbyists as defined in Title 2 U.S.C. 1602 who are required by Title 2 U.S.C. 1603 to register with the Secretary of the Senate and the Clerk of the House of Representatives.

The Department of Homeland Security does not discriminate in selection of Committee members on the basis of race, color, religion, sex, national origin, political affiliation, sexual orientation, gender identity, marital status, disabilities and genetic information, age, membership in an employee organization, or any other non-merit factor. The Department of Homeland Security strives to achieve a widely diverse candidate pool for all of its recruitment actions.

If you are interested in applying to become a member of the Committee, send your cover letter and resume, and be prepared to complete a OGE Form 450, as instructed, to Mr. Davis J. Breyer, Alternate Designated Federal Officer of the Merchant Mariner Medical Advisory Committee via one of the transmittal methods in the ADDRESSES section by the deadline in the DATES section of this notice.

All email submittals will receive email receipt confirmations.

Dated: November 30, 2018.
Benjamin J. Hawkins,
Deputy Director of Commercial Regulations and Standards.

[FR Doc. 2018-26499 Filed 12-4-18; 8:45 am]

BILLING CODE 9110-04-P